DEPARTMENT OF ENERGY

Federal Energy Regulatory Commission

[Docket No. IC10-729-001]

Commission Information Collection Activities (FERC-729); Comment Request; Submitted for OMB Review

January 22, 2010.

AGENCY: Federal Energy Regulatory Commission, DOE.

ACTION: Notice.

SUMMARY: In compliance with the requirements of section 3507 of the Paperwork Reduction Act of 1995, 44 U.S.C. 3507, the Federal Energy Regulatory Commission (Commission or FERC) has submitted the information collection described below to the Office of Management and Budget (OMB) for review of the information collection requirements. Any interested person may file comments directly with OMB and should address a copy of those comments to the Commission as explained below. The Commission received twenty comments in response to the Federal Register notice (74 FR 52796, 10/14/2009). FERC has summarized and addressed the commenters' suggestions below and in its submission to OMB.

DATES: Comments on the collection of information are due by March 3, 2010.

ADDRESSES: Address comments on the collection of information to the Office of Management and Budget, Office of Information and Regulatory Affairs, Attention: Federal Energy Regulatory Commission Desk Officer. Comments to OMB should be filed electronically, c/o oira_submission@omb.eop.gov and include OMB Control Number 1902-0238 as a point of reference. The Desk Officer may be reached by telephone at 202-395-4638. A copy of the comments should also be sent to the Federal Energy Regulatory Commission and should refer to Docket No. IC10-729-001. Comments may be filed either electronically or in paper format. Those persons filing electronically do not need to make a paper filing. Documents filed electronically via the Internet must be prepared in an acceptable filing format and in compliance with the Federal Energy Regulatory Commission submission guidelines. Complete filing instructions (including the required number of copies and acceptable filing formats) are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

All comments may be viewed, printed or downloaded remotely via the Internet through FERC's homepage using the “eLibrary” link. For user assistance, contact ferconlinesupport@ferc.gov or toll-free at (866) 208-3676 or for TTY, contact (202) 502-8659.

FOR FURTHER INFORMATION CONTACT: Ellen Brown may be reached by telephone at (202) 502-8663, by fax at (202) 273-0873, and by e-mail at ellen.brown@ferc.gov.

SUPPLEMENTARY INFORMATION: FERC-729 (“Electric Transmission Facilities,” OMB Control No. 1902-0238) covers the reporting requirements ¹ of 18 CFR part 50, and, as relates to transmission facilities, 18 CFR 380.3(c)(3), 380.5(b) (14), 380.6(a)(5), 380.15(d), and 380.16.

¹ These requirements were promulgated by Order 689, issued November 16, 2006, in Docket No. RM06-12, in accordance with section 1221 of the Energy Policy Act of 2005: (a) to establish filing requirements and procedures for entities seeking to construct or to modify electric transmission facilities, and (b) to coordinate the processing of Federal authorizations and the environmental review of electric transmission facilities in designated national interest electric transmission corridors. (Order 689 is available in FERC's eLibrary at http://elibrary.ferc.gov/idmws/search/intermediate.asp?link_file=yes&doclist=4455911.)

The purpose of these regulations is to implement the Commission's mandates under Energy Policy Act of 2005 (EPAct 2005) section 1221 which authorizes the Commission to issue permits under Federal Power Act (FPA) section 216(b) for electric transmission facilities and the Commission's delegated responsibility to coordinate all other federal authorizations under FPA section 216(h). The related FERC regulations seek to develop a timely review process for siting of proposed electric transmission facilities. The regulations provide for, among other things, an extensive pre-application process that will facilitate maximum participation from all interested entities and individuals to provide them with a reasonable opportunity to present their views and recommendations, with respect to the need for and impact of the facilities, early in the planning stages of the proposed facilities as required under FPA section 216(d).

Additionally, under FPA section 216(b)(1)(C), FERC has the authority to issue a permit to construct electric transmission facilities if a state has withheld approval for more than a year or has conditioned its approval in such a manner that it will not significantly reduce transmission congestion or is not economically feasible. FERC envisions that, under certain circumstances, the Commission's review of the proposed facilities may take place after one year of the state's review. Accordingly, under section 50.6(e)(3) the Commission will not accept applications until one year after the state's review and then from applicants who can demonstrate that a state may withhold or condition approval of proposed facilities to such an extent that the facilities will not be constructed.² In cases where FERC's jurisdiction rests on FPA section 216(b)(1)(C),³ the pre-filing process should not commence until one year after the relevant State applications have been filed. This will give the States one full year to process an application without any intervening Federal proceedings, including both the pre-filing and application processes. Once that year is complete, an applicant may seek to commence FERC's pre-filing process. Thereafter, once the pre-filing process is complete, the applicant may submit its application for a construction permit.

² However, the Commission will not issue a permit authorizing construction of the proposed facilities until, among other things, it finds that the state has, in fact, withheld approval for more than a year or had so conditioned its approval.

³ In all other instances (i.e., where the state does not have jurisdiction to act or otherwise to consider interstate benefits, or the applicant does not qualify to apply for a permit with the State because it does not serve end use customers in the State), the pre-filing process may be commenced at any time.

The environmental report includes information on areas such as: aquatic life, wildlife, and vegetation and the expected impacts on them; cultural resources; socioeconomics; geological resources; soils, land use, recreation, and aesthetics; alternatives; buildings; and reliability and safety.

Public Comments and FERC Responses. A summary of the public comments filed on the FERC-729 reporting requirements, FERC's response, and proposed changes to the requirements follow.

a. Comment: We received several public comments on the Commission's transmission siting policy and process, including FERC's jurisdiction, stakeholder participation, environmental impacts, health and safety issues, and alternatives. We also received comments in regard to the Potomac-Appalachian Transmission Highline (PATH) Project, transmission planning, cost allocation, cyber security, physical and national security, and public access to documents.

FERC Response: The purpose of Docket No. IC10-729 is to seek comment on the generic information collection requirements imposed on applicants for Electric Transmission Facilities. (The request for comments is described more fully in the last paragraph in both the 60-day Notice (at http://elibrary.ferc.gov/idmws/common/opennat.asp?fileID=12167427) and this Notice.) Docket No. IC10-729 does not address case-specific transmission applications; rather it addresses the information requirements the agency imposes on applicants in general. FERC's transmission siting process is detailed in Parts 50 and 380 of the Commission's regulations, and further information is on our Web site at http://www.ferc.gov/for-citizens/citizen-guides/electric/guide-transmission.pdf. In addition, currently, there are no requests for the Commission to site transmission facilities in Maryland or in any other state, including the PATH Project. (Specific PATH Project information, including the status of applications in Maryland, Virginia, and West Virginia, can be found on the Project's Internet Web site at http://www.pathtransmission.com.)

Docket No. IC10-729 is not an appropriate venue to address those comments, but the appropriate FERC offices have been made aware of those comments.

b. Comment: Applicants should detail efforts undertaken to contact public and private organizations that actively engage in the protection of historic, cultural, natural, and scenic resources. Responses to these contacts should be included in the pre-filing process.

FERC response: Section 50.5(c)(3)-(5) of the Commission's regulations requires the applicant to provide a list of the permitting entities responsible for conducting separate federal permitting and environmental reviews and authorizations, including how the applicant intends to account for each of the relevant entity's permitting and environmental review schedules and when the applicant proposes to file with these entities. The applicant must also provide a list of all other stakeholders that have been contacted, or have contacted the applicant, about the project and a description of what other work has already been completed, including contacting stakeholders and agency and Indian tribe consultations. FERC also requires communication between applicants and stakeholders to be documented throughout the pre-filing process. Section 50.5(e)(8) requires the applicant to file monthly status reports during the pre-filing process detailing project activities, including stakeholder communications.

c. Comment: Applicants should include an explanation of which mitigation measure was chosen and why others were rejected.

FERC response: FERC staff reviews the applicant's proposed mitigation measures to ensure that they are appropriate and adequate for the corresponding environmental impact. The applicant is required to develop and propose mitigation measures in the resource reports tailored to a specific environmental impact. To the extent that FERC staff determines that a rejected mitigation measure warrants further evaluation, the applicant may be required to provide additional information to support its decision. If necessary, FERC staff can also require additional mitigation to address an impact. The applicant must follow all staff-recommended mitigation measures, included as specific conditions in the Commission's authorization.

d. Comment: Commenters suggest that the applicant should address the range of potential environmental impacts (e.g., air pollution) associated with changes in electric generation levels and sources.

FERC response: Section 380.16(b) of the Commission's regulations requires each of the applicant's resource reports to address conditions or resources that are likely to be directly or indirectly affected by the project, and identify cumulative effects resulting from existing or reasonably foreseeable projects. This would include environmental impacts associated with changes in electric generation levels and sources.

e. Comment: More information is needed from electric utilities. Information collected during meetings with utilities should be shared with public stakeholders. Without full disclosure to the public, the permit process is not effective, efficient, or timely.

FERC response: As indicated in the Commission's Notice, applicants are required to provide information on certain resource areas (including aquatic life; wildlife; vegetation; cultural resources, socioeconomics, geological resources, soils; land use; recreation; aesthetics; alternatives; buildings; and reliability and safety). This information is posted on FERC's eLibrary system (at http://www.ferc.gov) and is available for public review. FERC staff conducts reviews of an applicant's submission to determine compliance with the Commission's regulations. If the information is deemed deficient, Commission staff can seek additional information from an applicant. All information requests, subsequent responses, as well as discussions with the applicant, Federal, State, and local agencies and Indian tribes on matters related to the merits of an application are documented and placed on FERC's eLibrary for public access and review.

f. Comment: What is FERC's estimate for the average cost and time required for FERC staff and expert consultants to evaluate the information collected for a single utility application? What is FERC's estimate for the average cost and time for a public stakeholder using industry experts to evaluate the information in a utility's application?

FERC response: The Commission's estimates for the burden and cost imposed on industry address the annual averages for all of the applications FERC expects to receive. The figures are estimated annual averages for industry and include the cost and burden for staff and expert consultants, as well as other needed resources (such as information technology; administrative, legal, and management resources). The estimated average annual industry burden appears below, in the section titled “Burden Statement.” Additional details on the industry burden and cost are included in the supporting statement, that FERC is submitting to OMB, in Questions 12 and 13. After publication of this Notice in the Federal Register, the supporting statement will be submitted to OMB.⁴ FERC's estimates for the government's average annual cost for FERC-729 include the staff and other resources (such as consultants, administrative, legal, management, and information technology resources) for the review and processing of the filings, and the OMB clearance for the filing requirements. Additional details on the government cost are included in the supporting statement that FERC is submitting to OMB in Question 14.⁴

⁴ The supporting statement will then be available at http://www.reginfo.gov/public/do/PRAMain by selecting “Federal Energy Regulatory Commission” from the drop-down picklist under “Currently under Review.” Then go to the entry for FERC-729 (OMB Control No. 1902-0238) and click on the link to the “ICR Reference Number”. Then click on the link labeled “View Supporting Statement and Other Documents,” and the link under “Supporting Statement A”.

Under the Paperwork Reduction Act (PRA) and the related guidance from the Office of Management and Budget (OMB), “ ‘burden’ means time, effort, or financial resources expended by persons to generate, maintain, or provide information to or for a Federal agency” [44 U.S.C. 3502(2)]. The burden and cost estimates include the time and effort required to plan, develop, prepare, and fulfill an information collection, and to respond to the agency's requirement. The PRA does not require burden estimates for the cost and time for a public stakeholder to evaluate a particular utility's application to the agency.

g. Comment: FERC must require utilities to provide reasonable alternatives instead of allowing utilities to submit a single monolithic proposal.

FERC response: FERC requires utilities to provide and analyze reasonable alternatives at multiple points in the pre-filing process. Section 50.5(e)(5) of the Commission's regulations requires the applicant to file a summary of the project alternatives considered or under consideration within 30 days of initiating the pre-filing process. Section 380.16(k) requires the applicant to submit an entire resource report dedicated to alternatives and the associated environmental impacts. This resource report would describe a variety of alternatives, including, where appropriate, alternatives other than new transmission lines.

h. Comment: Utilities currently lack commitment to work with public stakeholders, do not maintain open communication with public stakeholders or respond to public stakeholder questions, do not plan for public stakeholder input, do not adequately explain mitigation, benefits, and alternatives. The proper preparation and stakeholder involvement in the pre-filing process can make the entire process easier, quicker, and ultimately less expensive.

FERC response: The Commission's regulations require an applicant to develop and implement a Project Participation Plan to ensure stakeholders have access to accurate and timely information on the proposed project and to provide a forum for resolving issues. This plan identifies specific tools and actions to facilitate stakeholder communications, including a single point of contact within the company and a description and schedule explaining how the applicant intends to respond to requests for information from the public as well as federal, state, and tribal permitting agencies. Public stakeholders also have the opportunity to interact directly with an applicant at open houses.

Action: The Commission is requesting a three-year extension of the current expiration date for the FERC-729, with no changes.

Burden Statement: Public reporting burden for this collection is estimated as follows.

FERC data collection | Number of respondents annually | Number of responses per respondent | Average burden hours per response | Total annual burden hours
| (1) | (2) | (3) | (1) × (2) × (3)
FERC-729 | 10 | 1 | 9,600 | 96,000
Note: These figures may not be exact, due to rounding.

The total estimated annual cost burden ⁵ to respondents is $7,680,000 (96,000 hours × $80 per hour ⁵).

⁵ Based on the Bureau of Labor Statistics “Occupational Outlook Handbook (OOH), 2008-09 Edition,” Occupational Employment Statistics (Occupational Employment and Wages, for May 2008, for Lawyers (23-1011), posted at http://www.bls.gov/oes/current/oes231011.htm), FERC is using $80 per hour. Other professions (such as engineers and administrators) are involved in preparing the filing. We are using $80 per hour as a high-end figure to include all of the professions involved with preparation of the filing.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. 2010-1979 Filed 1-29-10; 8:45 am]

BILLING CODE 6717-01-P